DEPARTMENT OF JUSTICE

Notice of Lodging of Amended Consent Decree Under the Comprehensive Environmental Response, Compensation and Liability Act

Notice is hereby given that on October 31, 2002, a proposed amendment to a consent decree entered on April 28, 1992 in United States and State of Arizona v. Motorola, Inc., Siemens Corporation, Salt River Valley Water Users' Association and GlaxoSmithKline, Civil Action No. CV-91-1835-PHX-WPC, was lodged with the United States District Court for the District of Arizona.

In this action the United States sought the performance of response actions and the recovery of response costs incurred and to be incurred by the United States with respect to releases of hazardous substances at the Indian Bend Wash, North, Superfund Site in Scottsdale, Arizona (“Site”). The consent decree entered by the Court on April 28, 1992 required the performance of certain work by the Defendants Motorola, Inc., Siemens Corporation, the Salt River Valley Water Users' Association and GlaxoSmithKline (collectively “Defendants”), with participation by the City of Scottsdale pursuant to Rule 19 of the Federal Rules of Civil Procedure.

One provision of the April 28, 1992 consent decree specified that, if EPA determined that additional work was necessary to remediate contamination at the Site, the parties would negotiate informally to incorporate a requirement for the performance of that work into the April 28, 1992 consent decree. The Amended Consent Decree would incorporate certain additional work to be performed at the Site by the Defendants and the City that EPA has deemed necessary. This work includes, but is not limited to, the continued operation and maintenance of three groundwater treatment facilities and related extraction and monitoring well systems.

The Department of Justice will receive for a period of thirty (30) days from the date of this publication comments relating to the Amended Consent Decree. Comments should be addressed to the Assistant Attorney General, Environment and Natural Resources Division, PO Box 7611, U.S. Department of Justice, Washington, DC 20044-7611, and should refer to United States and State of Arizona v. Motorola, Inc., Siemens Corporation, Salt River Valley Water Users' Association and GlaxoSmithKline, D.J. Ref. 90-11-2-413.

Commenters may request an opportunity for a public meeting in the affected area, in accordance with section 7003 (d) of RCRA, 42 U.S.C. 6973(d).

The Amended Consent Decree may be examined at the Office of the United States Attorney, Two Renaissance Square, 40 N. Central Avenue, Suite 1200, Phoenix, Arizona 85004-4408, and at U.S. EPA Region 9, 75 Hawthorne Street, San Francisco, California 94105. A copy of the Amended Consent Decree may also be obtained by mail from the Consent Decree Library, PO Box 7611, U.S. Department of Justice, Washington, DC 20044-7611 or by faxing a request to Tonia Fleetwood, fax no. (202) 514-0097, phone confirmation number (202) 514-1547. In requesting a copy, please enclose a check in the amount of $69.25 (25 cents per page reproduction cost) payable to the U.S. Treasury. In requesting a copy exclusive of exhibits, please enclose a check in the amount of $23.00 (25 cents per page reproduction cost) payable to the U.S. Treasury.

Ellen M. Mahan,
Assistant Chief, Environmental Enforcement Section, Environment and Natural Resources Division.

[FR Doc. 02-30154 Filed 11-26-02; 8:45 am]

BILLING CODE 4410-15-M